FEDERAL RESERVE SYSTEM

Change in Bank Control Notices; Acquisitions of Shares of a Savings and Loan Holding Company

The notificants listed below have applied under the Change in Bank Control Act (“Act”) (12 U.S.C. 1817(j)) and of the Board's Regulation LL (12 CFR 238.31) to acquire shares of a savings and loan holding company. The factors that are considered in acting on the notices are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than September 21, 2023.

A. Federal Reserve Bank of Kansas City Jeffrey Imgarten, Assistant Vice President, One Memorial Drive, Kansas City, Missouri 64198, Comments can also be sent electronically to KCApplicationComments@kc.frb.org:

1. Kathryn R. Ryan, Cherry Hills Village, Colorado, and Martha E. Records, Denver, Colorado; to become co-trustees of the George J. and Nancy J. Records 1990 Irrevocable Trust;

Todd A. Dobson, Oklahoma City, Oklahoma; to become trustee or co-trustee of the Kathryn R. Ryan 2012 Family Trust, Kathryn R. Ryan 2020 Family Trust, and Martha E. Records 2020 Family Trust;

Raymond Kido, Paradise Valley, Arizona, and Anat Bird, Scottsdale, Arizona; to become co-trustees of the G. Jeffrey Records, Jr. 2003 Family Trust; G. Jeffrey Records, Jr. 2004 Family Trust (KRR); G. Jeffrey Records, Jr. 2004 Family Trust (MER); G. Jeffrey Records, Jr. 2008 GST Exempt Family Trust; and 2012 Dorchester Trust; and

Anat Bird; to also become co-trustee of the G. Jeffrey Records, Jr. 2020 Family Trust.

As a result, each of the above-listed individuals would indirectly acquire control of voting shares of Midland Financial Co. and thereby indirectly acquire control of voting shares of Midfirst Bank, both of Oklahoma City, Oklahoma.

Board of Governors of the Federal Reserve System.
Michele Taylor Fennell,
Deputy Associate Secretary of the Board.

[FR Doc. 2023-19196 Filed 9-5-23; 8:45 am]

BILLING CODE 6210-01-P